DEPARTMENT OF THE INTERIOR

Bureau of Land Management

[LLNMA02000.L51010000.ER0000.LVRWG13G0940; NMNM-129147]

Notice of Intent To Prepare an Environmental Impact Statement for the Proposed Lobos CO2 Pipeline Project in Arizona and New Mexico and Amend the Rio Puerco, Roswell, and Socorro Resource Management Plans

AGENCY: Bureau of Land Management, Interior.

ACTION: Notice of Intent.

SUMMARY: In compliance with the National Environmental Policy Act of 1969, as amended (NEPA), and the Federal Land Policy and Management Act of 1976, as amended (FLPMA), the Bureau of Land Management (BLM), Socorro Field Office, Socorro, New Mexico, intends to prepare an Environmental Impact Statement (EIS) in order to analyze the proposed Lobos carbon dioxide (CO2) Pipeline Project and consider amendments to the Roswell Resource Management Plan (RMP) (1997), the Rio Puerco RMP (1986), and the Socorro RMP (2010). This notice announces the scoping process to solicit public comments and identifies issues.

DATES: This notice initiates the public scoping process for the RMP amendment with associated EIS. Comments on issues may be submitted in writing until January 29, 2014. The date(s) and location(s) of any scoping meetings will be announced at least 15 days in advance through local news media and the BLM Web site at: http://www.blm.gov/nm/LobosCO2. In order to be included in the Draft EIS, all comments must be received prior to the close of the 90-day scoping period or 15 days after the last public meeting, whichever is later. We will provide additional opportunities for public participation as appropriate.

ADDRESSES: You may submit comments by any of the following methods:

• Email: BLM_NM_SFO_Comments@blm.gov

• Fax: 575-835-0223, Attention: Andi Knight

• Mail: Bureau of Land Management, Socorro Field Office, Attention: Andi Knight, 901 S. Highway 85, Socorro, NM 87801-4168.

Documents pertinent to this proposal may be examined at the Socorro Field Office at the address above.

FOR FURTHER INFORMATION CONTACT: Gregory Helseth, Washington Office Project Manager, at 702-515-5173; or email at ghelseth@blm.gov. Contact Mr. Helseth if you wish to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Kinder Morgan CO2 Company, L.P. (Kinder Morgan) has filed a right-of-way (ROW) application with the BLM pursuant to Title V of FLPMA proposing to construct and operate the Lobos CO2 Pipeline. This pipeline would consist of about 214 miles of 16-inch diameter pipeline, with an initial capacity of about 200 million standard cubic feet per day of CO2. The pipeline would originate in the St. Johns CO2 field in Apache County in eastern Arizona, cross central New Mexico south of Albuquerque, and terminate at the Main Line Valve 160 located along the existing Cortez Pipeline in Torrance County, New Mexico. It is anticipated that up to four pump stations would be strategically located along the proposed new pipeline route and interconnections would be made at the origin and terminus. A 40-mile-long, 30-inch-diameter loop would also be constructed parallel to the existing Cortez Pipeline in Chaves County, New Mexico. A new pump station would be added along the existing Cortez Pipeline at the existing location of Main Line Valve 170 in Torrance County, New Mexico, and upgrades in pumping capacity would be made to the existing Caprock Station on the Cortez Pipeline in Chaves County, New Mexico.

This document provides notice that the Socorro Field Office, Socorro, New Mexico, intends to prepare an EIS and a RMP Amendment for the Proposed Lobos CO2 Pipeline Project in Arizona and New Mexico, announces the beginning of the scoping process, and seeks public input on issues and planning criteria. The planning area is located in Catron, Socorro, Torrance, and Chaves Counties, New Mexico; and Apache County, Arizona; and encompasses about 773 acres of BLM-managed public land that may result in a linear 58.96-mile right-of-way grant.

The purpose of the public scoping process is to determine relevant issues that will influence the scope of the environmental analysis, including alternatives, and guide the planning process. Preliminary issues for the plan amendment area have been identified by BLM personnel; Federal, State, and local agencies; and other stakeholders. The issues include: Loss of habitat and direct disturbance to plant and animal species (including special and sensitive status species); new visual intrusions on the landscape that would impact the scenic and visual quality of the area; impacts to cultural resources, lands that contain places of traditional cultural or religious importance, and historic sites; impacts to National Scenic or Historic Trails; and potential public health and safety impacts. Preliminary planning criteria include: The RMP Amendment and EIS will be completed in compliance with FLPMA, NEPA, and all other relevant Federal laws, executive orders, and management policies of the BLM; where existing planning decisions are still valid, those decisions may remain unchanged and be incorporated into the new RMP amendment; the RMP amendment will recognize valid existing rights; the RMP Amendment and EIS will be completed by coordination with cooperating agencies, government agencies, tribal entities, and all other interested parties.

You may submit comments on issues and planning criteria in writing to the BLM at any public scoping meeting, or you may submit them to the BLM using one of the methods listed in the ADDRESSES section above. To be most helpful, you should submit comments by the close of the 90-day scoping period or within 15 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Native American tribes and pueblos on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the EIS as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, outdoor recreation, archaeology, paleontology, wildlife, lands and realty, hydrology, soils, sociology, and economics.

Authority: 40 CFR 1501.7 and 43 CFR 1610.2

Jesse J. Juen,
State Director.

[FR Doc. 2013-25929 Filed 10-30-13; 8:45 am]

BILLING CODE 4310-FB-P